FEDERAL COMMUNICATIONS COMMISSION

47 CFR Part 20

[PS Docket No. 07-114, GN Docket No. 11-117, WC Docket No. 05-196; FCC 11-107]

Interconnected VoIP Service; Wireless E911 Location Accuracy Requirements; E911 Requirements for IP-Enabled Service Providers

AGENCY: Federal Communications Commission.

ACTION: Final rule.

SUMMARY: In this document, the Commission continues to strengthen its existing Enhanced 911 (E911) location accuracy regime for wireless carriers by retaining the existing handset-based and network-based location accuracy standards and the eight-year implementation period established in our September 2010 E911 Location Accuracy Second Report and Order but providing for phasing out the network-based standard over time. We also require all Commercial Mobile Radio Service (CMRS) providers, launching new stand-alone networks, to comply with the handset-based location criteria, regardless of the location technology they actually use. In addition, we will require wireless carriers to periodically test their outdoor E911 location accuracy results and to share the results with Public Safety Answering Points (PSAPs), state 911 offices, and the Commission, subject to confidentiality safeguards.

DATES: Effective November 28, 2011, except for § 20.18(h)(2)(iv) which contains information collection requirements that have not been approved by OMB. The Federal Communications Commission will publish a document in the Federal Register announcing the effective date.

ADDRESSES: Federal Communications Commission, 445 12th Street, SW., Washington, DC 20554.

FOR FURTHER INFORMATION CONTACT: Patrick Donovan, Attorney Advisor, (202) 418-2413. For additional information concerning the Paperwork Reduction Act information collection requirements contained in this document, contact Judith Boley-Herman, (202) 418-0214, or send an e-mail to PRA@fcc.gov.

SUPPLEMENTARY INFORMATION: This is a summary of the Commission's Third Report and Order (Third R&O) in PS Docket No. 07-114, GN Docket No. 11-117, WC Docket No. 05-196, FCC 11-107, released on July 13, 2011. The full text of this document is available for public inspection during regular business hours in the FCC Reference Center, Room CY-A257, 445 12th Street, SW., Washington, DC 20554, or online at http://transition.fcc.gov/pshs/services/911-services/.

I. Introduction

1. In the Third Report and Order, Second Further Notice of Proposed Rulemaking, and Notice of Proposed Rulemaking, we enhance the public's ability to contact emergency services personnel during times of crisis and enable public safety personnel to obtain accurate information regarding the location of the caller. In the Report and Order, we continue to strengthen our existing Enhanced 911 (E911) location accuracy regime for wireless carriers by retaining the existing handset-based and network-based location accuracy standards and the eight-year implementation period established in our September 2010 E911 Location Accuracy Second Report and Order but providing for phasing out the network-based standard over time. We also require new Commercial Mobile Radio Service (CMRS) networks to comply with the handset-based location criteria, regardless of the location technology they actually use. In addition, we will require wireless carriers to periodically test their outdoor E911 location accuracy results and to share the results with Public Safety Answering Points (PSAPs), state 911 offices, and the Commission, subject to confidentiality safeguards.

II. Background

2. In 1996, the Commission required CMRS providers to implement basic 911 and Enhanced 911 services. Under the Commission's wireless E911 rules, CMRS providers are obligated to provide the telephone number of the originator of a 911 call and information regarding the caller's location to any PSAP that has requested that such information be delivered with 911 calls. Recently amended § 20.18(h) of the Commission's rules states that licensees subject to the wireless E911 requirements:

Shall comply with the following standards for Phase II location accuracy and reliability: (1) For network-based technologies: 100 meters for 67 percent of calls, 300 meters for 90 percent of calls; (2) For handset-based technologies: 50 meters for 67 percent of calls, 150 meters for 90 percent of calls.

3. In June 2005, the Commission released a First Report and Order and Notice of Proposed Rulemaking adopting rules requiring providers of interconnected VoIP service to supply E911 capabilities to their customers as a standard feature from wherever the customer is using the service. The rules adopted in the 2005 VoIP 911 Order apply only to providers of interconnected VoIP services, which the Commission defined as services that (1) enable real-time, two-way voice communications; (2) require a broadband connection from the user's location; (3) require Internet protocol-compatible customer premises equipment (CPE); and (4) permit users generally to receive calls that originate on the public switched telephone network (PSTN) and to terminate calls to the PSTN. Interconnected VoIP service providers generally must provide consumers with E911 service and transmit all 911 calls, including Automatic Number Identification (ANI) and the caller's Registered Location for each call, to the PSAP, designated statewide default answering point, or appropriate local emergency authority. In 2008, Congress codified these requirements and granted the Commission authority to modify them.

4. In June 2007, the Commission released the Location Accuracy NPRM, seeking comment on several issues relating to wireless E911 location accuracy and reliability requirements. Specifically, the Commission sought comment on the capabilities and limitations of existing and new location technologies; the advantages of combining handset-based and network-based location technologies (a hybrid solution); the prospect of adopting more stringent location accuracy requirements; and compliance testing methodologies in different environments, such as indoor versus outdoor use and rural versus urban areas. The Commission also invited comment on how to address location accuracy issues for 911 calls placed when roaming, particularly when roaming between carriers using different location technologies. Further, the Commission requested comment on a number of tentative conclusions and proposals, including establishing a single location accuracy standard rather than the separate accuracy requirements for network and handset-based technologies, adopting a mandatory schedule for accuracy testing, and applying the same location accuracy standards that apply to circuit-switched CMRS services to interconnected VoIP services used in more than one location.

5. In October 2008, as required by the NET 911 Improvement Act (NET 911 Act), the Commission released a Report and Order adopting rules providing “interconnected VoIP providers rights of access to any and all capabilities necessary to provide 911 and E911 service from entities that own or control those capabilities.” In the NET 911 Improvement Act Report and Order, the Commission declined to “issue highly detailed rules listing capabilities or entities with ownership or control of these capabilities” because the nation's 911 system varies depending on the locality and “overly specific rules would fail to reflect these local variations.” The Commission also declined “to expand the applicability of the rights granted in the NET 911 Improvement Act to entities beyond those encompassed within that statute.”

6. On March 16, 2010, the Commission staff released the National Broadband Plan, which recommended that the Commission examine approaches for leveraging broadband technologies to enhance emergency communications with the public by moving towards Next Generation 911 (NG911), because NG911 will provide a “more interoperable and integrated emergency response capability for PSAPs, first responders, hospitals and other emergency response professionals.” Further, the National Broadband Plan notes that the Commission is “considering changes to its location accuracy requirements and the possible extension of * * * ALI * * * requirements to interconnected VoIP services.” The National Broadband Plan recommends that the Commission “expand [the Location Accuracy NPRM] proceeding to explore how NG911 may affect location accuracy and ALI.”

7. On September 23, 2010, the Commission adopted the E911 Location Accuracy Second Report and Order, addressing wireless E911 location accuracy, and the Location Accuracy FNPRM and NOI, seeking comment on additional location accuracy issues affecting wireless, VoIP, and emerging broadband voice services. The E911 Location Accuracy Second Report and Order required CMRS providers to satisfy the E911 Phase II location accuracy requirements at either a county-based or PSAP-based geographic level. The order provided for implementation of this standard over an eight-year period with interim benchmarks. The Commission determined, however, that the revised location accuracy requirements would apply to outdoor measurements only and not to accuracy measurements for indoor locations. Additionally, regardless of whether a carrier employs handset-based or network-based location technology, the Commission required wireless carriers to provide confidence and uncertainty data on a per-call basis upon PSAP request. The Commission also extended the requirement to deliver confidence and uncertainty data to entities responsible for transporting this data between wireless carriers and PSAPs, including LECs, CLECs, owners of E911 networks, and emergency service providers (collectively, System Service Providers (SSPs)).

8. In the Location Accuracy FNPRM and NOI, the Commission sought comment on several issues with respect to amending the Commission's wireless 911 and E911 requirements and extending 911 and E911 requirements to additional VoIP and wireless services. In the Location Accuracy FNPRM, the Commission sought comment on a number of issues initially raised in the Location Accuracy NPRM, including: whether the Commission should consider more stringent location parameters for wireless E911 Phase II location accuracy and reliability; potential modifications to the accuracy standard, including adoption of a unitary or single standard; the methodology carriers should use to verify compliance, both initially and during ongoing testing; the format in which accuracy data should be automatically provided to PSAPs; how to address location accuracy while roaming; how to improve location information and accuracy in more challenging environments, such as indoors; and whether the Commission's location accuracy standards should include an elevation (z-axis) component. In the NOI, the Commission requested comment on a number of 911 and E911 issues related to VoIP services, including whether the Commission should require interconnected VoIP service providers to automatically identify the geographic location of a customer without the customer's active cooperation and whether the Commission should apply its E911 regulations to VoIP services that are not fully interconnected to the PSTN.

9. In March 2011, the Communications Security, Reliability, and Interoperability Council's (CSRIC's) Working Group 4C released a report entitled “Technical Options for E9-1-1 Location Accuracy.” CSRIC is a Federal Advisory Committee that was tasked with providing guidance and expertise on the nation's communications infrastructure and public safety communications. CSRIC Working Group 4C was responsible for examining E911 and public safety location technologies currently in use, identifying current performance and limitations for use in next generation public safety applications, examining emerging E911 public safety location technologies, and recommending options to CSRIC for the improvement of E911 location accuracy timelines. The CSRIC 4C Report made a number of recommendations, including that the FCC should: establish an E9-1-1 Technical Advisory Group to address specific location technology issues for 911, such as how to improve location accuracy in challenging environments, including indoor settings; actively engage in discussion on how to implement 911 auto-location for nomadic VoIP services; and consider extending E911 and location obligations to providers of over-the-top VoIP applications that are not subject to the FCC's interconnected VoIP regulations.

III. Third Report and Order

A. Unitary Location Accuracy Standard

10. Background. In the Location Accuracy FNPRM, the Commission sought comment on whether to change the current location accuracy requirements in Section 20.18(h) of our rules, including whether to adopt a unitary standard, rather than maintaining separate standards for network- and handset-based carriers. The Commission also sought to refresh the record developed on this issue in response to the Location Accuracy NPRM, in which the Commission had tentatively concluded that it should adopt a unitary location accuracy requirement.

11. Comments. Some commenters support the adoption of a unitary location accuracy requirement. APCO supports the adoption of a unitary standard “to the extent feasible,” while NENA urges the FCC to “lay out a regulatory vision for achieving [one] harmonized accuracy standard.” Verizon Wireless and Intrado also support the use of a unitary standard, contending that the bifurcated handset and network standards create “an unacceptable disparity” among wireless users.

12. Other commenters oppose adoption of a unitary location accuracy standard. AT&T, Sprint Nextel, T-Mobile, the Telecommunications Industry Association (TIA), Andrew Corporation, Motorola, and CTIA contend that a unitary standard is not technically or economically feasible at this time. For instance, T-Mobile asserts that “[f]or carriers using network-based E911 solutions * * * the [E911 Location Accuracy Second Report and Order] establishes a migration path from those technologies to the handset-based A-GPS solution.” T-Mobile submits that the “[Second Report and Order] already contemplates a handset change out for all non-A-GPS-capable handsets” and urges the Commission to be “reluctant to order another handset change out, especially before it can fully evaluate the results of the [Second Report and Order].” T-Mobile contends that “[d]oing so would likely impose significant additional unnecessary costs on consumers and providers without an ascertainable benefit[,]” while “continued refinements in GPS receiver performance and location algorithms, and the likely availability of additional navigation satellite systems will improve A-GPS capabilities during the eight-year transition.” Also, TIA “encourages the Commission not to impose a single uniform standard for location accuracy rules[,]” because “[m]andating a single standard for both network and device location accuracy will drive technological innovation and investment towards meeting such a standard, rather than developing location accuracy enhancements that go beyond any new requirements.” Polaris argues that a single location accuracy standard should not be implemented “until [the Commission] adopts a hybridization timeline.”

13. Discussion. Given the Commission's recent revisions to the handset- and network-based location accuracy requirements in the E911 Location Accuracy Second Report and Order and the establishment of an eight-year implementation period for these requirements, we find that it would be premature to replace the existing location accuracy rules with a unitary location accuracy standard. To comply with the E911 Location Accuracy Second Report and Order, CMRS providers are already making substantial efforts to improve their ability to provide accurate location information. We see no reason, at this time, to alter the amount of time provided to carriers under the E911 Location Accuracy Second Report and Order to comply with the rules adopted there.

14. Nevertheless, the record in this proceeding clearly signals that the wireless industry is engaged in a broad migration away from the dichotomy between network- and handset-based approaches to location accuracy. Current handset-based carriers are increasingly combining A-GPS technologies with refinements based on location determinations using network-based technologies. For instance, Sprint uses “a combination of handset-based and network-based location technologies,” and while its “Phase II E-911 solution for its CDMA network has been categorized as a handset-based solution,” it also deploys “network-based components.” Similarly, Verizon Wireless submits that it uses a mix of technologies, including “A-GPS (network-assisted), Hybrid (A-GPS & AFLT), AFLT, and several default location technologies (cell sector with timing, mixed cell sector, cell sector) to provide location information for 9-1-1 calls.” T-Mobile adds that besides “A-GPS improvements, carriers have also made improvements in the use of the timing and triangulation technologies that serve as fallback location technologies implemented today as complements to A-GPS.”

15. As network-based carriers migrate to A-GPS and increase the penetration of A-GPS-capable handsets in accordance with our implementation benchmarks for location accuracy, the technological distinctions between handset- and network-based wireless E911 solutions will continue to diminish. We concur with T-Mobile that “[a]s carriers transition to A-GPS, they will also transition from network-based accuracy standards to handset-based standards, moving toward a de facto unified standard” and that “the likely result * * * at least for major nationwide carriers, is that all will be using similar A-GPS E911 location technologies across nearly their entire subscriber base by the end of the ordered eight-year transition.”

16. Therefore, we decide not to alter the rules adopted in the E911 Location Accuracy Second Report and Order as they apply to existing wireless carriers and networks. Rather, we conclude that the network-based standard should sunset at an appropriate point after the end of the eight-year implementation period, at which point all carriers would be obligated to meet the handset-based location accuracy standard in the Commission's current rules. In adopting this approach, we assess the benefits of requiring, at a later date, the handset-based location accuracy standard as the unitary standard. The handset-based standard is more stringent than the network-based standard. This stricter standard is consistent with the Commission's chief objective of “ensur[ing] that PSAPs receive accurate and meaningful location information” while considering that “compliance timeframes, limitations, and exemptions * * * provide carriers with a sufficient measure of flexibility to account for technical and cost-related concerns.” With the more precise handset-based standard as the unitary standard, we expect it to be easier for first responders to locate wireless customers in emergency situations. It is reasonable to expect that the more accurate location information under the handset-based location accuracy parameters will lead to more direct and quicker response by first responders addressing wireless 911 calls, and that expediting their response time will have significant public safety benefits. For instance, we note that, in cardiac arrest emergencies, reducing response times by even three minutes improves a victim's chances of survival “almost four-fold.”

17. There are substantial benefits to retaining the existing location accuracy rules with the eight-year implementation periods for both handset-based and network-based location accuracy solutions. The record shows convincing support from wireless carriers and the public safety community for retaining the Commission's current bifurcated approach for cost reasons. We agree with T-Mobile that adopting a unitary location accuracy standard now “would likely impose significant additional unnecessary costs on consumers and providers without an ascertainable benefit.” AT&T adds that “mandating a specific technology or standard would prevent carriers from implementing E911 solutions that fully leverage their unique network characteristics,” especially since, as we note above, carriers are currently taking initial steps to comply with our first location accuracy benchmarks. Also, although NENA supports a unitary location accuracy standard, it recognizes that the bifurcated regulatory regime in effect “represent[s] a reasonable compromise between cost [and] capability.” We thus conclude that continuing this approach will provide the benefit of regulatory certainty without the likely precipitate costs of a unitary standard at this time, as the growing migration to A-GPS handsets continues and network-based carriers increasingly incorporate those handsets in accordance with their respective location accuracy benchmarks.

18. The phasing out of the network-based standard that we are adopting will allow carriers using network-based technologies to spread over the eight-year implementation period their actions to comply with the location accuracy benchmarks. Because in 2010 almost all 2G and 3G handsets shipped by manufacturers were equipped with GPS-chips, by the end of the eight-year implementation period, network-based carriers will likely have complied with their location accuracy benchmarks by “blending in” such location-capable handsets. Therefore, the costs of meeting the handset-based standard within a reasonable sunset period after 8 years should be minimal. Moreover, the fact that the eight-year benchmark permits “a network-based carrier to comply * * * using only handset-based measurements, as long as it has achieved at least 85% A-GPS handset penetration among its subscribers” should provide incentives to network-based carriers to achieve 85 percent A-GPS handset penetration by the end of the eight years and thereby contribute to minimizing subsequent costs. Nevertheless, given the constantly evolving nature of location technologies, we recognize that it is premature to adopt a specific sunset date at this time. Instead, we will seek comment on selecting a sunset date and on considering the costs and benefits associated with a particular sunset date at a later time. We believe that as the end of the eight-year period draws closer, the public safety community, wireless carriers, location technology vendors and other stakeholders will have a significantly better understanding of how much time network-based carriers will need following the conclusion of the eight-year implementation period to come into compliance with the handset-based standard.

19. In addition, we conclude that all new CMRS network providers that meet the definition of covered CMRS providers in Section 20.18 must comply with the handset-based location accuracy standard. We concur with Verizon and Verizon Wireless that due to the broad migration toward use of A-GPS-capable handsets, it is reasonable to harmonize our location accuracy requirements with regard to new CMRS networks. We define a “new CMRS network” as a CMRS network that is newly deployed subsequent to the effective date of this Report and Order and that is not associated with an existing CMRS network. In other words, our definition of “new CMRS network” excludes network changes or deployments that are part of an upgrade or expansion of an existing CMRS network. In adopting this definition, our intent is to require covered CMRS providers that are launching new stand-alone networks to meet the handset-based location accuracy standard from the start, rather than to accelerate the eight-year implementation period for existing covered CMRS providers that opt to upgrade their networks during the implementation period.

20. We find that requiring all new CMRS network providers to comply with our handset-based location accuracy standard is consistent with the regulatory principle of ensuring technological neutrality. Providers deploying new CMRS networks are free to use network-based location techniques, or to combine network and handset-based techniques, to provide 911 location information, provided that they meet the accuracy criteria applicable to handset-based providers. Given the long-term goal of universal support for one location accuracy standard, we believe that such a mandate allows appropriate planning and ensures that new technology will comply with the most stringent location accuracy standard that applies to existing technology. Additionally, as A-GPS-capable handsets become more widely available, and as consumer demand increases for handsets that provide GPS-based navigation and location-based services, new CMRS providers will have substantial incentive to provide such handsets to most if not all of their customers, thus minimizing the incremental cost to such carriers of complying with the Commission's handset-based location accuracy standard.

1. Outdoor Location Accuracy Testing

21. In April 2000, the Commission's Office of Engineering and Technology (OET) issued Bulletin No. 71 (OET Bulletin 71) to provide assistance in determining whether wireless licensees are in compliance with the location accuracy standards set by the Commission. The bulletin stated that compliance with the OET guidelines would establish “a strong presumption that appropriate means have been applied to ensure that an [automatic location identification] (ALI) system complies with the Commission's Rules.”

22. Background. In the Location Accuracy FNPRM, the Commission sought comment on whether it should make wireless location accuracy compliance testing mandatory and whether to establish a mandatory testing schedule. The Commission also sought comment on whether OET Bulletin 71 should serve as the basis for a mandatory testing methodology, and the Commission sought to refresh the record on testing methodologies developed in response to the Location Accuracy NPRM.

23. Comments. A number of commenters support mandatory periodic testing of CMRS providers' compliance with the Commission's location accuracy rules. NENA argues that “[s]uch testing is the PSAP's only real assurance that emergency services personnel will be able to locate callers in times of distress.” NENA, however, acknowledges “that compliance testing is an expensive and burdensome process for carriers” and therefore proposes that the “baseline compliance testing interval should be five years.” NENA also advocates that in PSAP service areas where Phase II service capabilities have been deployed, new or upgraded base stations should undergo compliance testing before entering service. NENA reasons that without such a requirement, current rules “could permit carriers to delay testing of location accuracy for newly-deployed base stations (or sectors in these areas) for up to six months” and that this risks “the creation of `islands' where E9-1-1 Phase II level service is unavailable to consumers who have a reasonable expectation of service.” NENA also recommends that “[m]aterial changes to the wireless operational environment within a PSAP service area should trigger localized out-of-cycle testing.” Finally, NENA argues that carriers should be required to share test results with relevant PSAPs and State 9-1-1 offices, “subject to stringent confidentiality provisions,” to foster collaboration between carriers and public safety agencies and to improve PSAPs' situational awareness.

24. APCO also supports mandatory accuracy testing but does not propose a specific schedule or timeframe. APCO argues that “[c]ompliance testing must * * * be repeated within a reasonable time frame,” as “wireless system updates such as `re-homing' a cellular network or modifying internal databases have been known to have a negative impact on location and 9-1-1 delivery.” APCO urges the Commission to “seriously consider mandating that compliance testing conforms to OET 71.” APCO also argues that test results should be shared with relevant PSAPs and presented in a standardized format.

25. TruePosition also recommends periodic mandatory accuracy testing. TruePosition argues that “[t]o identify the impact of the numerous changes that occur over time * * * it is necessary to characterize system performance periodically.” TruePosition argues that “such testing often turns up hidden problems that can usually be rectified quickly once discovered” and that periodic testing “also has the benefit of identifying common issues such that procedures can be put in place to address them on an on-going basis.” Further, TruePosition argues that “test calls from a specific cell site should be weighted according to the percentage of 911 calls originating on that cell site” and that “[w]hile accuracy is the main criteria for compliance, it is meaningless unless yield is also taken into account.”

26. Texas 9-1-1 Agencies argue that “[w]ireless carriers must be required to do initial pre-deployment testing of Phase 2 service before turning up any new towers with live traffic or any new coverage areas with live traffic in 9-1-1 authority areas that have full Phase 2 service.” Texas 9-1-1 Agencies argue further that “[Section] 20.18 should not be interpreted to create an automatic loophole extension of up to six-months for wireless carriers to deploy Phase 2 service at a later date after they start handling live end user traffic.”

27. The Alliance for Telecommunications Industry Solutions' (ATIS) Emergency Services Forum (ESIF), an organization with wireless carriers as members, has developed and published several industry-accepted methodologies related to testing. In particular, ATIS's ESIF has published a technical report (ATIS Report) that specifies events that should trigger maintenance testing. These events include: (1) Major network changes that may significantly impact location accuracy; (2) problems such as unexplained significant degradation of service, systematic failed delivery of service and catastrophic events; and (3) every two years, at a minimum, consistent with NRIC VII Focus Group 1A recommendations. ATIS states that examples of major network changes that should trigger location accuracy testing include:

(a) Changes to core location technology;

(b) Major system software upgrades that impact location algorithms;

(c) Changes in radio frequency (RF) configuration that would result in a significant impact to location accuracy in the area being considered; and

(d) Natural disasters that alter the topology of a significant portion of the infrastructure in an area of consideration.”

According to AT&T, the ATIS report “should be the starting point for [an advisory group] evaluation.”

28. Carrier commenters generally oppose mandatory testing. T-Mobile argues that periodic testing is not necessary because “once initial data is collected indicating certain accuracy levels have been achieved, that data does not lose validity. In fact, performance generally tends to improve rather than degrade over time.” T-Mobile further contends that “[r]equiring periodic re-testing would * * * be unnecessary and impose a huge burden. At a minimum, the Commission is obligated by the Paperwork Reduction Act to evaluate the Second Report and Order mechanisms before imposing additional information collection requirements.” AT&T also opposes a testing requirement, arguing that “[t]he NPRM's discussion of these topics ignores the Commission's decision in the Second R&O to trend uncertainty data to validate accuracy in an ongoing manner.” T-Mobile similarly contends that “trending of confidence and uncertainty data * * * provides a way of better targeting areas where remedial measures may be needed,” while “[n]etworkwide accuracy retesting is a costly and unnecessary burden absent any clear evidence of need.”

29. However, according to NENA, confidence and uncertainty trends are not sufficient proxies for location accuracy testing because “reported confidence and uncertainty data are themselves subject to systemic error.” NENA disputes T-Mobile's claim that network performance does not materially change with time, noting that “routine changes in deployed networks can adversely affect location accuracy.”

30. Commenters also urge caution regarding using OET Bulletin 71 as the basis for testing procedures, arguing that the bulletin is outdated and further work on testing criteria is required. Andrew Corporation supports mandatory testing but cautions that “in order to ensure that such testing is as meaningful as possible, the compliance verification methodology should be based on empirical test data collected at a statistically significant number of test points representative of calling patterns in the targeted compliance area.” Andrew Corporation also argues that “compliance testing parameters should account for the fact that performance among individual handset models may vary for handset-based location methods and can strongly influence measured results for GPS-based location technology.”

31. Discussion. We conclude that requiring CMRS providers to periodically test their outdoor location accuracy results and to share these results with PSAPs within their service areas, state 911 offices in the states or territories in which they operate, and the Commission, subject to confidentiality safeguards, is important to ensure that our location accuracy requirements are being met. Indeed, as NENA, APCO, and TruePosition note, the current lack of available data on location accuracy results has made it difficult for public safety entities, the Commission, and the public to assess whether the Commission's rules are effectively ensuring that CMRS providers are providing meaningful location information to PSAPs. The lack of available data has also made it difficult to assess the effects of emerging technologies on location accuracy results and has negatively affected the ability of public safety personnel to have confidence in the location information they do receive.

32. As noted, there is disagreement in the record regarding the need for periodic testing of carriers' networks. T-Mobile contends that only initial test data on accuracy levels is necessary and that periodic retesting yields no public safety benefit. Other commenters, including NENA and TruePosition, cite examples of common environmental and network changes that can affect the reliability of previous test results, such as new construction or development, new Phase II capabilities, re-homing of cellular networks, and rectifying problems discovered in previous testing. They argue that in the absence of periodic retesting, these changes can result in degradation of location accuracy performance that would not be identifiable based on initial test results.

33. We find that periodic testing is important to ensure that test data does not become obsolete as a result of environmental changes and network reconfiguration. Indeed, even ATIS, which is comprised of wireless carriers, notes that “major network change * * * could significantly impact location accuracy and trigger accuracy maintenance testing.” In addition, carrier disclosure to PSAPs and 911 offices will enable them to better gauge whether they are receiving accurate location information from CMRS providers and thus base their responses to emergencies accordingly. Disclosure of the information to the Commission will enable the Commission to monitor trends in location accuracy and thereby ensure that its regulations are appropriately tailored to enhance location accuracy without imposing unnecessary costs or administrative burdens. We also recognize that test results subject to disclosure may contain proprietary information. Therefore, before the Commission implements any disclosure requirements, we will seek comment on safeguards that should be implemented to ensure the protection of confidential information in the test results.

34. No entity has suggested a means other than periodic testing to ensure the accuracy of location information. However, further work is needed to develop approaches to testing criteria, procedures, and timeframes that are reasonable and cost-effective. We also agree with commenters that basing testing criteria and procedures on the current OET Bulletin 71, developed eleven years ago, would be inappropriate at this time. Rather, we conclude that development of these issues should be referred to the newly re-chartered CSRIC. More specifically, the CSRIC should be tasked with making recommendations to the Commission within six months regarding cost-effective and specific approaches to testing requirements, methodologies, and implementation timeframes that will substantially meet the goals articulated above, including appropriate updates to OET Bulletin 71. The Commission will then subject these recommendations to further notice and comment prior to implementing specific testing requirements and procedures.

35. We encourage the CSRIC to consider the feasibility of flexible testing criteria and methodologies. To the extent that any stakeholders have concerns about the potential expense of periodic testing, we expect them to substantiate such concerns by providing the CSRIC with detailed cost data relating to particular testing methodologies. Overall, the CSRIC's recommendations should attempt to find cost-effective testing solutions.

2. Legal Authority

36. We act pursuant to well-established legal authority. Since 1996, the Commission has required CMRS providers to implement basic 911 and E911 services. As the Commission has explained before, sections 301 and 303(r) of the Act give us the authority to require CMRS providers to implement these services. E911 requirements also further the Commission's mandate to “promot[e] safety of life and property through the use of wire and radio communication.” Our actions in this item enhance E911 service to “promote safety of life and property” and fall within this authority.

IV. Procedural Matters

A. Accessible Formats

37. To request materials in accessible formats for people with disabilities (braille, large print, electronic files, audio format), send an e-mail to fcc504@fcc.gov or call the Consumer & Governmental Affairs Bureau at 202-418-0530 (voice), 202-418-0432 (tty).

B. Regulatory Flexibility Analyses

38. As required by the Regulatory Flexibility Act of 1980, see 5 U.S.C. 604, the Commission has prepared a Final Regulatory Flexibility Analysis (FRFA) of the possible significant economic impact on small entities of the policies and rules addressed in this document. The FRFA is set forth in Appendix B of the document.

C. Paperwork Reduction Act Analysis

39. The Report and Order contains new information collection requirements subject to the Paperwork Reduction Act of 1995 (PRA), Public Law 104-13. It will be submitted to the Office of Management and Budget (OMB) for review under section 3507(d) of the PRA. OMB, the general public, and other Federal agencies are invited to comment on the new information collection requirements contained in this proceeding.

40. We note that pursuant to the Small Business Paperwork Relief Act of 2002, Public Law 107-198, see 44 U.S.C. 3506(c)(4), we previously sought specific comment on how the Commission might “further reduce the information collection burden for small business concerns with fewer than 25 employees.” In addition, we have described impacts that might affect small businesses, which includes most businesses with fewer than 25 employees, in the FRFA in Appendix C, infra.

D. Congressional Review Act

41. The Commission will send a copy of the Third R&O in a report to be sent to Congress and the Government Accountability Office pursuant to the Congressional Review Act (CRA), see 5 U.S.C. 801(a)(1)(A).

E. Final Regulatory Flexibility Analysis

42. As required by the Regulatory Flexibility Act of 1980, as amended (RFA), an Initial Regulatory Flexibility Analysis (IRFA) was included in the Further Notice of Proposed Rulemaking and Notice of Inquiry (“FNPRM”) in PS Docket No. 07-114. The Commission sought written public comment on the proposals in these dockets, including comment on the IRFA. This Final Regulatory Flexibility Analysis (FRFA) conforms to the RFA.

V. Ordering Clauses

43. Accordingly, It Is Ordered, pursuant to sections 1, 4(i), 301, 303(r), and 332 of the Communications Act of 1934, as amended, 47 U.S.C. 151, 154(i), 301, 303(r), and 332, that the Third R&O in PS Docket No. 07-114 Is Adopted and that parts 20 and 9 of the Commission's Rules, 47 CFR part 20 and 47 CFR part 9, are amended as set forth in Appendix C. The Third R&O shall become effective November 28, 2011, subject to OMB approval for new information collection requirements.

44. It Is Further Ordered that the Commission's Consumer and Governmental Affairs Bureau, Reference Information Center, Shall Send a copy of the Third R&O, including the Final Regulatory Flexibility Analysis, to the Chief Counsel for Advocacy of the Small Business Administration.

List of Subjects in 47 CFR Part 20

Communications common carriers, Communications equipment.

Federal Communications Commission.
Marlene H. Dortch,
Secretary.

For the reasons discussed in the preamble, the Federal Communications Commission amends 47 CFR part 20 as follows:

PART 20—COMMERCIAL MOBILE RADIO SERVICES

1. The authority citation for part 20 continues to read as follows:

Authority: 47 U.S.C. 154, 160, 201, 251-254, 301, 303, 316, and 332 unless otherwise noted. Section 20.12 is also issued under 47 U.S.C. 1302.

2. Section 20.18 is amended by adding paragraph (h)(2)(iv) to read as follows:

§ 20.18 911 Service.

* * * * *

(h) * * *

(2) * * *

(iv) Providers of new CMRS networks that meet the definition of covered CMRS providers under paragraph (a) of this section must comply with the requirements of paragraphs (h)(2)(i) through (iii) of this section. For this purpose, a “new CMRS network” is a CMRS network that is newly deployed subsequent to the effective date of the Third Report and Order in PS Docket No. 07-114 and that is not an expansion or upgrade of an existing CMRS network.

* * * * *

[FR Doc. 2011-24865 Filed 9-27-11; 8:45 am]

BILLING CODE 6712-01-P